DEPARTMENT OF COMMERCE

National Oceanic and Atmospheric Administration

Proposed Information Collection; Comment Request; Southeast Region IFQ Programs

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 30, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Adam Bailey, National Marine Fisheries Service (NMFS) Southeast Regional Office, 263 13th Avenue South, St. Petersburg, FL 33701, (727) 824-5303, or adam.bailey@noaa.gov.

SUPPLEMENTARY INFORMATION:

I. Abstract

This request is for an extension and revision of a currently approved information collection under the Office of Management and Budget's (OMB) Control Number 0648-0551, Southeast Region IFQ (individual fishing quota) Programs. The NMFS Southeast Regional Office manages three commercial IFQ and individual transferable quota (ITQ) programs in the Southeast Region under the authority of the Magnuson-Stevens Fishery Conservation and Management Act (Magnuson-Stevens Act), 16 U.S.C. 1801 et seq. The IFQ programs for red snapper, and grouper and tilefish occur in Federal waters of the Gulf of Mexico, and the ITQ program for wreckfish occurs in Federal waters of the South Atlantic.

This collection of information tracks the transfer and use of IFQ and ITQ shares, and IFQ allocation and landings necessary to operate, administer, and review management of the IFQ and ITQ programs. Regulations for the IFQ and ITQ programs are located at 50 CFR part 622.

The NMFS Southeast Regional Office also proposes to revise parts of the information collection approved under OMB Control Number 0648-0551 to account for updates to burden time and cost estimates, as well as administrative updates to online and paper forms. NMFS intends the revisions would make instructions and data collection requirements clearer and easier to understand, resulting in more accurate and efficient information available for use by fishery managers.

II. Method of Collection

Information for the Gulf red snapper, and grouper and tilefish IFQ programs is collected electronically via a web-based system, through satellite-linked vessel monitoring systems, through a 24-hour call line, and with paper form submission for landing corrections, closing an account, and account applications, as well as landing transactions under catastrophic circumstances.

The share transfer process in the wreckfish ITQ program requires the signatures of witnesses on paper forms. The ITQ program remains paper based until the South Atlantic Fishery Management Council and NMFS consider whether to implement an electronic system.

III. Data

OMB Control Number: 0648-0551.

Form Number(s): None.

Type of Review: Regular submission (extension and revision of a currently approved information collection).

Affected Public: Business or other for-profit organizations.

Estimated Number of Respondents: 1,059.

Estimated Time per Response: Share Transfer Receipt form, Cost Recovery Fee Submission form, 1 minute; Share Transfer form, IFQ Close Account form, Cost Recovery Fee Submission form, Landing Transaction Correction Request form, Landing Location Submission form, Transfer Allocation form, Cost Recovery Fee payment through pay.gov, 3 minutes; Notification of Landing form, 5 minutes; Landing Transaction Report form, 6 minutes; IFQ Online Account Application form, 15 minutes; Wreckfish Quota Share Transfer form, 18 minutes.

Estimated Total Annual Burden Hours: 2,322.

Estimated Total Annual Cost to Public: $150 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 25, 2017.
Sarah Brabson,
NOAA PRA Clearance Officer.

[FR Doc. 2017-18372 Filed 8-29-17; 8:45 am]

BILLING CODE 3510-22-P